DEPARTMENT OF DEFENSE

Department of the Army; Corps of Engineers

Intent To Prepare a Draft Environmental Impact Statement (DEIS) for an Expansion of the Existing Craney Island Dredged Material Management Area in Hampton Roads, Virginia

AGENCY: U.S. Army Corps of Engineers, DOD.

ACTION: Notice of intent.

SUMMARY: An Environmental Impact Statement will be prepared to evaluate environmental impacts, project alternatives, and other public interest review factors for proposed expansion of the Craney Island Dredged Material Management Area.

FOR FURTHER INFORMATION CONTACT: Questions about the proposed action and the DEIS may be directed to: Craig L. Seltzer, U.S. Army Engineer District (USAED), Norfolk, 803 Front Street, Norfolk, Virginia 23510-1096, (757) 441-7390.

SUPPLEMENTARY INFORMATION: 1. Proposed Action: The Corps of Engineers, along with the Commonwealth of Virginia through the Virginia Port Authority, is preparing a comprehensive feasibility investigation report and Environmental Impact Statement to evaluate project impacts, and the need for and interest in an expansion of the Craney Island Dredged Material Management Area (CIDMMA) located in Hampton Roads, Virginia. The proposed expansion would provide dredged material placement capacity and port facilities to support port commerce in Hampton Roads. This activity will require a State permit pursuant to Section 401 of the Clean Water Act (Public Law 95-217). A Section 404(b)(1) analysis will be completed and presented in the NEPA document.

2. Alternatives: Alternatives to be investigated include, but will not be limited to various expansion configurations of the existing CIDDMA facility, ocean disposal of dredged material, island construction, overboard placement in Chesapeake Bay, other alternative upland sites, and the “No Action” alternative. Alternative construction and access methods which avoid or minimize wetland impacts will be investigated.

3. Scoping Process: A NEPA Technical Review Committee has been formed and one meeting has been conducted with Federal, state, local agency and private interest group representatives. Alternatives have been discussed and continue to be developed by this group. The public scoping process may add to or subtract from the list of alternatives that have been discussed.

4. Public Scoping Meeting: Because a number of pre-scoping meetings will be held with the Federal, state, and local representatives, no additional scoping meetings are anticipated at this time. Since there has been no opportunity for public input to this point, a public notice and the pertinent maps will be sent to the adjacent property owners, newspapers having circulation in the area, and individuals and organizations having previously asked to receive copies of Corps public notices. Written comments on the scope of the DEIS will be accepted from any interested agency, organization, or individual.

5. DEIS Availability: It is estimated that the DEIS will be available to the public for review and comment in the fall of 2001.

Allan B. Carroll,
Colonel, Corps of Engineers, District Engineer.

[FR Doc. 01-5116 Filed 3-1-01; 8:45 am]

BILLING CODE 3710-EN-M